Title 3—

The President

Proclamation 8156 of June 11, 2007

Father's Day, 2007

By the President of the United States of America

A Proclamation

On Father's Day, we reflect on the many ways that fathers contribute to the lives of their children with spoken words and unspoken kindness.

Fathers are one of the most important influences in the lives of children, and their unconditional love is an indispensable anchor of certainty and strength. By placing their family's well-being above their own, fathers provide children with an example of what it means to be a responsible person. Through unwavering devotion and daily sacrifice, fathers work to create an environment where children are protected and encouraged. Fathers instill in their children an understanding of right and wrong and help them to grow in confidence and character. These dedicated men strive to give their sons and daughters the necessary foundation to make good choices and lead lives of purpose.

On Father's Day and throughout the year, we honor the men who have taken on the great joy and responsibility of fatherhood, and we celebrate their extraordinary impact and influence. All Americans are especially grateful to the many fathers who are serving their country as members of the Armed Forces, and we lift them and their loved ones up in prayer.

NOW, THEREFORE, I, GEORGE W. BUSH, President of the United States of America, in accordance with a joint resolution of the Congress approved April 24, 1972, as amended (36 U.S.C. 109), do hereby proclaim June 17, 2007, as Father's Day. I encourage all Americans to express admiration and appreciation to fathers for their many contributions to our Nation's children. I direct the appropriate officials of the Government to display the flag of the United States on all Government buildings on this day. I also call upon State and local governments and citizens to observe this day with appropriate programs, ceremonies, and activities.

IN WITNESS WHEREOF, I have hereunto set my hand this eleventh day of June, in the year of our Lord two thousand seven, and of the Independence of the United States of America the two hundred and thirty-first.

[FR Doc. 07-2948

Filed 6-12-07; 8:47 am]

Billing code 3195-01-P